DEPARTMENT OF COMMERCE

National Oceanic and Atmospheric Administration

RIN 0648-XW92

Endangered Species; File Nos. 14508 and 14655

AGENCY: National Marine Fisheries Service (NMFS), National Oceanic and Atmospheric Administration (NOAA), Commerce.

ACTION: Issuance of permits.

SUMMARY: Notice is hereby given that Inwater Research Group, Inc. [Permit no. 14508, Principal Investigator, Michael Bresette] Jensen Beach, FL and Jane Provancha [Permit No. 14655], Cape Canaveral, FL have been issued permits to take take green (Chelonia mydas), loggerhead (Caretta caretta), hawksbill (Eretmochelys imbricata), and Kemp's ridley (Lepidochelys kempii) sea turtles for purposes of scientific research.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Southeast Region, NMFS, 263 13th Ave South, St. Petersburg, FL 33701; phone (727) 824-5312; fax (727) 824-5309.

FOR FURTHER INFORMATION CONTACT: Kate Swails or Amy Hapeman, (301) 713-2289.

SUPPLEMENTARY INFORMATION: On July 31, 2009 and September 29, 2009, notice was published in the Federal Register (74 FR 38169 and 74 FR 49851) that requests for scientific research permits had been submitted by the above-named applicants. The requested permits have been issued under the authority of the Endangered Species Act of 1973, as amended (ESA; 16 U.S.C. 1531 et seq.) and the regulations governing the taking, importing, and exporting of endangered and threatened species (50 CFR parts 222-226).

File No. 14508: The purpose of the research is to continue to collect long-term data on species comparison, size frequencies, disease rates, seasonal abundance, genetic origin and feeding ecology of sea turtles using Lake Worth Lagoon in Palm Beach County, Florida. Up to 50 green, 5 loggerhead, 2 hawksbill, and 1 Kemp's ridley sea turtles may be captured annually. Turtles may be flipper and passive integrated transponder tagged, blood and tissue sampled, measured, photographed, and weighed. A subset of green sea turtles may be lavaged. The permit is issued for five years.

File No. 14655: The Permit Holder will continue to monitor the abundance and distribution of sea turtles in the waters of Mosquito Lagoon in Volusia and Brevard Counties, Florida. Up to 40 green, 40 loggerhead, and 1 Kemp's ridley sea turtles may be captured, flipper and PIT tagged, blood sampled and/or tissue biopsied, lavaged, and released annually. Up to 12 green and 10 loggerhead turtles may be tracked using a sonic transmitter. The permit is issued for five years.

Issuance of these permits, as required by the ESA, was based on a finding that such permits (1) were applied for in good faith, (2) will not operate to the disadvantage of such endangered or threatened species, and (3) are consistent with the purposes and policies set forth in section 2 of the ESA.

Dated: June 8, 2010.
P. Michael Payne,
Chief, Permits, Conservation and Education Division, Office of Protected Resources, National Marine Fisheries Service.

[FR Doc. 2010-14247 Filed 6-11-10; 8:45 am]

BILLING CODE 3510-22-S